DEPARTMENT OF COMMERCE

International Trade Administration

[A-489-815]

Light-Walled Rectangular Pipe and Tube From Turkey: Preliminary Results and Partial Rescission of Antidumping Duty Administrative Review; 2016-2017

AGENCY: Enforcement and Compliance, International Trade Administration, Department of Commerce.

SUMMARY: The Department of Commerce (Commerce) preliminarily determines that Agir Haddecilik A.S. (Agir) did not make sales of subject merchandise at prices below normal value during the period of review (POR) May 1, 2016, through April 30, 2017.

DATES: Applicable February 12, 2018.

FOR FURTHER INFORMATION CONTACT: Jonathan Hill, AD/CVD Operations, Office IV, Enforcement and Compliance, International Trade Administration, U.S. Department of Commerce, 1401 Constitution Avenue NW, Washington, DC 20230; telephone: (202) 482-3518.

SUPPLEMENTARY INFORMATION:

Background

This administrative review covers nine exporters of the subject merchandise, including the sole mandatory respondent, i.e., Agir. Commerce exercised its discretion to toll all deadlines affected by the closure of the Federal Government from January 20 through 22, 2018. If the new deadline falls on a non-business day, in accordance with Commerce's practice, the deadline will become the next business day. The revised deadline for the preliminary result is now February 5, 2018.¹ Interested parties are invited to comment on these preliminary results.

¹ See Memorandum for The Record from Christian Marsh, Deputy Assistant Secretary for Enforcement and Compliance, performing the non-exclusive functions and duties of the Assistant Secretary for Enforcement and Compliance, “Deadlines Affected by the Shutdown of the Federal Government” (Tolling Memorandum), dated January 23, 2018. All deadlines in this segment of the proceeding have been extended by 3 days.

Scope of the Order

The merchandise covered by the antidumping order is certain welded carbon quality light-walled steel pipe and tube, of rectangular (including square) cross section, having a wall thickness of less than 4 millimeters. The merchandise subject to the order is classified in the Harmonized Tariff Schedule of the United States at subheadings 7306.61.50.00 and 7306.61.70.60. For a full description of the scope of the order, see Preliminary Decision Memorandum.²

² See Memorandum, “Decision Memorandum for Preliminary Results of the 2016-2017 Antidumping Duty Administrative Review of Light-Walled Rectangular Pipe and Tube from Turkey,” dated concurrently with this notice (Preliminary Decision Memorandum).

Methodology

Commerce is conducting this review in accordance with section 751(a) of the Tariff Act of 1930, as amended (the Act). Export price is calculated in accordance with section 772 of the Act. Normal value is calculated in accordance with section 773 of the Act. For a full description of the methodology underlying our conclusions, see the Preliminary Decision Memorandum. Further, a list of the topics discussed in the Preliminary Decision Memoradum is attached as an appendix to this notice. The Preliminary Decision Memorandum is a public document and is on file electronically via Enforcement and Compliance's Antidumping and Countervailing Duty Centralized Electronic Service System (ACCESS). ACCESS is available to registered users at http://iaaccess.trade.gov and is available to all parties in the Central Records Unit, Room B8024 of the main Department of Commerce building. In addition, a complete version of the Preliminary Decision Memorandum can be accessed directly at http://enforcement.trade.gov/frn/. The signed Preliminary Decision Memorandum and the electronic version of the Preliminary Decision Memorandum are identical in content.

Partial Rescission of Administrative Review

On August 2, 2017, Atlas Tube and Searing Industries (collectively, the petitioners) timely withdrew their request for an administrative review of each of the companies for which they had requested a review, except for Agir. On September 7, 2017, Noksel timely withdrew its request for an administrative review of itself. No other parties requested a review of the companies for which the petitioners and Noksel timely withdrew their review requests. Pursuant to 19 CFR 351.213(d)(1), Commerce will rescind an administrative review, in whole or in part, if the party or parties that requested a review withdraws the request within 90 days of the publication date of the notice of initiation of the requested review. Therefore, in accordance with 19 CFR 351.213(d)(1), Commerce is rescinding this review of the AD order on LWRPT from Turkey with respect to Toscelik Profil ve Sac Endustrisi A.S., Toscelik Metal Ticaret A.S., Tosyali Dis Ticaret A.S., Noksel Celik Boru Sanayi A.S., Yucel Boru ve Profil Endustrisi A.S., Yucelboru Ihracat Ithalat ve Pazarlama A.S., Cayirova Boru Sanayi ve Ticaret A.S., and CINAR Boru Profil Sanayi ve Ticaret A.S.

Preliminary Results of Review

The Department preliminarily determines the weighted-average dumping margin for Agir for the period May 1, 2016, through April 30, 2017, as follows:

Manufacturer/exporter | Weighted- average margin (percent)
Agir Haddecilik A.S | 0.00

Assessment Rates

Upon issuance of the final results, Commerce will determine, and Customs and Border Protection (CBP) shall assess, antidumping duties on all appropriate entries in accordance with 19 CFR 351.212(b)(1). We will calculate importer-specific assessment rates equal to the ratio of the total amount of dumping calculated for examined sales with a particular importer to the total entered value of the sales in accordance with 19 CFR 351.212(b)(1). Where the respondent's weighted-average dumping margin is zero or de minimis, or an importer-specific assessment rate is zero or de minimis, we will instruct CBP to liquidate the appropriate entries without regard to antidumping duties. The final results of this review shall be the basis for the assessment of antidumping duties on entries of merchandise under review and for future deposits of estimated duties, where applicable.

For entries of subject merchandise during the POR produced by the respondent for which it did not know that its merchandise was destined for the United States, we will instruct CBP to liquidate unreviewed entries at the all-others rate if there is no rate for the intermediate company(ies) involved in the transaction.

We intend to issue instructions to CBP 15 days after the date of publication of the final results of this review.

Cash Deposit Requirements

The following cash deposit requirements will be effective for all shipments of LWRPT from Turkey entered, or withdrawn from warehouse, for consumption on or after the date of publication of the notice of the final results of this administrative review, as provided for by section 751(a)(2)(C) of the Act: (1) The cash deposit rate for Agir will be equal to the weighted-average dumping margin established in the final results of this review (except, if the rate is zero or de minimis, no cash deposit will be required); (2) for merchandise exported by manufacturers or exporters not covered in this review but covered in a prior segment of the proceeding, the cash deposit rate will continue to be the company-specific rate published for the most recently completed segment of this proceeding in which the manufacturer or exporter participated; (3) if the exporter is not a firm covered in this review, a prior review, or the less-than-fair-value investigation, but the manufacturer is, the cash deposit rate will be the rate established in the most recently completed segment of the proceeding for the manufacturer of the merchandise; and (4) the cash deposit rate for all other manufacturers or exporters will continue to be 27.04 percent ad valorem, the all-others rate established in the less-than-fair-value investigation.³ These cash deposit requirements, when imposed, shall remain in effect until further notice.

³ See Notice of Final Determination of Sales at Less Than Fair Value: Light-Walled Rectangular Pipe and Tube from Turkey, 73 FR 19814 (April 11, 2008).

Disclosure and Public Comment

Commerce intends to disclose the calculations used in our analysis to interested parties in this review within five days of the date of publication of this notice in accordance with 19 CFR 351.224(b). Interested parties are invited to comment on the preliminary results of this review. Pursuant to 19 CFR 351.309(c)(1)(ii), interested parties may submit case briefs no later than 30 days after the date of publication of this notice. Rebuttal briefs, limited to issues raised in the case briefs, may be filed no later than five days after the time limit for filing case briefs.⁴ Parties who submit case briefs or rebuttal briefs in this proceeding are requested to submit with each brief: (1) A statement of the issue, (2) a brief summary of the argument, and (3) a table of authorities.⁵ Executive summaries should be limited to five pages total, including footnotes.⁶ Case and rebuttal briefs should be filed using ACCESS.⁷

⁴ See 19 CFR 351.309(d)(1).

⁵ See 19 CFR 351.309(c)(2) and (d)(2).

⁶ Id.

⁷ See 19 CFR 351.303.

Pursuant to 19 CFR 351.310(c), any interested party may request a hearing within 30 days of the publication of this notice in the Federal Register. If a hearing is requested, Commerce will notify interested parties of the hearing date. Interested parties who wish to request a hearing, or who wish to participate in a hearing if one is requested, must submit a written request to the Assistant Secretary for Enforcement and Compliance, filed electronically via ACCESS within 30 days after the date of publication of this notice. Requests should contain: (1) The party's name, address, and telephone number; (2) the number of participants; and (3) a list of the issues to be discussed. Issues raised in the hearing will be limited to those raised in the respective case and rebuttal briefs.

We intend to issue the final results of this administrative review, including the results of our analysis of issues raised by the parties in the written comments, within 120 days of publication of these preliminary results in the Federal Register, unless otherwise extended.⁸

⁸ See section 751(a)(3)(A) of the Act and 19 CFR 351.213(h)(1).

Notification to Importers

This notice also serves as a preliminary reminder to importers of their responsibility under 19 CFR 351.402(f) to file a certificate regarding the reimbursement of antidumping duties prior to liquidation of the relevant entries during this review period. Failure to comply with this requirement could result in Commerce's presumption that reimbursement of antidumping duties occurred and the subsequent assessment of double antidumping duties.

These preliminary results of administrative review are issued and published in accordance with sections 751(a)(1) and 777(i)(1) of the Act and 19 CFR 351.213(h)(1).

Dated: February 5, 2018.
Gary Taverman,
Deputy Assistant Secretary for Antidumping and Countervailing Duty Operations, performing the non-exclusive functions and duties of the Assistant Secretary for Enforcement and Compliance.

Appendix—List of Topics Discussed in the Preliminary Decision Memorandum

I. Summary

II. Background

III. Scope of the Order

IV. Partial Rescission of Review

V. Discussion of the Methodology

Comparisons to Normal Value

A. Determination of a Comparison Methodology

B. Results of Differential Pricing Analysis

Product Comparisons

Date of Sale

Export Price

Duty Drawback

Normal Value

A. Home Market Viability

B. Calculation of Normal Value Based on Comparison-Market Prices

C. Level of Trade

Cost of Production Analysis

A. Cost Averaging Methodology

1. Significance of Cost Changes

2. Linkage Between Sales and Cost Information

B. Calculation of COP

C. Test of Comparison Market Sales

D. Results of COP Test

Currency Conversion

VI. Conclusion

[FR Doc. 2018-02764 Filed 2-9-18; 8:45 am]

BILLING CODE 3510-DS-P